DEPARTMENT OF COMMERCE

Bureau of Industry and Security

15 CFR Parts 700, 730, 740, 743, 744, 745, 746, 748, 750, 752, 754, and 774

[Docket No. 071011588-7712-02]

RIN 0694-AE15

Revisions and Technical Corrections to the Export Administration Regulations and the Defense Priorities and Allocations System Regulation

AGENCY: Bureau of Industry and Security, Commerce.

ACTION: Final rule.

SUMMARY: This rule amends the Export Administration Regulations (EAR) by making the following changes: Removing the post office box address for the Bureau of Industry and Security (BIS), updating the contact information for the San Jose field office, reinserting missing footnotes in sections describing License Exceptions, removing certain non-Country Group D countries from Country Group D, correcting formatting in the supplement listing items subject to the military end-use license requirement for the People's Republic of China (PRC), correcting the Code of Federal Regulations legal authority citation for part 745 of the EAR, removing a reference to Libya under embargoed destinations, adding fax information for submitting a request for approval to submit applications electronically, clarifying the requirements for obtaining an Import Certificate or an End-User Statement, changing Validated End-User report requirements, amending the contact information for the Ministry of Commerce of the PRC, making a technical correction to shipping tolerances, and removing references to certain entries on the Commerce Control List. In addition, this rule amends the Defense Priorities and Allocations System (DPAS) Regulation by updating an office name and by removing a reference to a form.

DATE: This rule is effective January 2, 2008.

ADDRESSES: Although this is a final rule, comments are welcome and should be sent to publiccomments@bis.doc.gov, fax (202) 482-3355, or to Regulatory Policy Division, Bureau of Industry and Security, Room H2705, U.S. Department of Commerce, Washington, DC 20230. Please refer to regulatory identification number (RIN) 0694-AE15 in all comments, and in the subject line of email comments. Comments on the collection of information should be sent to David Rostker, Office of Management and Budget (OMB), by e-mail to David_Rostker@omb.eop.gov, or by fax to (202) 395-7285. [?USGPO Galley End:?][?USGPO Galley End:?]

FOR FURTHER INFORMATION CONTACT: For questions related to amendments to the Export Administration Regulations, contact Steven Emme, Regulatory Policy Division, Bureau of Industry and Security, telephone: (202) 482-2440, e-mail: semme@bis.doc.gov. For questions related to amendments to the Defense Priorities and Allocations System Regulation, contact Liam McMenamin, Office of Strategic Industries and Economic Security, Bureau of Industry and Security, telephone: (202) 482-2233.

SUPPLEMENTARY INFORMATION: This rule makes the following corrections to the Export Administration Regulations:

Address Changes—Removal of P.O. Box Address for BIS in Washington, DC and Change in Location for BIS San Jose Field Office

BIS will no longer accept materials sent to post office box 273 in Washington, DC. In lieu of P.O. Box 273, materials may be sent via courier to Room 2705, 14th Street and Pennsylvania Ave., NW., Washington, DC 20230. To reflect this update, this rule removes references to P.O. Box 273 in parts 730, 740, 743, 748, 752, 754, and 774 and replaces those references with Room 2705, where applicable.

Furthermore, this rule updates the address, phone number, and fax number for the San Jose field office in §§ 730.8 (how to proceed and where to get help) and 748.2 (obtaining forms; mailing addresses).

Part 740—Reinsertion of Footnotes

On March 25, 1996, BIS (then the Bureau of Export Administration, or BXA) published an interim rule (61 FR 12714) which rewrote and reorganized the Export Administration Regulations. The rewrite created part 740 for license exceptions, which included § 740.4 for temporary imports, exports and reexports (TMP) and § 740.7 for gift parcels and humanitarian donations (GFT). On December 4, 1996, BIS published a subsequent revision (61 FR 64272) to the EAR that redesignated TMP as § 740.8 and GFT as § 740.11. When TMP and GFT were redesignated, one footnote to paragraph (b)(1)(iv) in TMP (now § 740.9(b)(1)(iv)) and one footnote to paragraph (a)(1) in GFT (now § 740.12(a)(1)) were inadvertently omitted. This rule reinserts the footnote by “Commerce Form 7513” in § 740.9(b)(1)(iv) and the footnote by “gift parcel” in § 740.12(a)(1)).

Part 740—Removal of Certain Countries from Country Group D

Country Group D, as found in Supplement No. 1 to part 740, contains countries listed as countries of concern due to national security, nuclear, chemical and biological, and/or missile technology reasons. An “x” in a particular column indicates the reason(s) that applies to a particular country. On August 5, 1997, BIS (then BXA) published a final rule (62 FR 42047) which removed the “x” in the D:2 column for Algeria, Andorra, Comoros, Djibouti, Micronesia, and Vanuatu, to reflect their status as signatories of the Nuclear Non-Proliferation Treaty. As a result of that rule, those six countries did not have an “x” in any of the columns in Country Group D. However, the rule did not remove those countries' names from the list of countries in that country group. Therefore, this rule removes references to those six countries from Country Group D.

Part 744—Formatting Corrections

On June 19, 2007, BIS published a revision and clarification of export and reexport controls for the People's Republic of China (PRC). In that final rule, certain changes to part 744 did not format correctly. Specifically, paragraph (1)(ii) of Supplement No. 2 contained measurements that appeared in the Federal Register as “3.18×106m” and “7.62×104m” and paragraphs (3) and (5) of Supplement No. 2 contained mislabeled sub-paragraph numbers. This rule corrects those measurements to read “3.18 × 10⁶ m” and “7.62 × 10⁴ m” respectively, and it renumbers the sub-paragraphs of paragraphs (3) and (5).

Part 745—Legal Authorities Correction

On November 30, 2007, BIS published a final rule (72 FR 67636) updating the statements of legal authority for the EAR. This rule makes a correction to the authority for part 745 by removing “Notice of October 27, 2006, 71 FR 64109 (October 31, 2006)” and adding “Notice of November 8, 2007, 72 FR 63963 (November 13, 2007)” in its place. This correction makes no changes to the text of the EAR.

Part 746—Removal of Libya Reference and Revision to Iran Provisions

Section 746.1(a)(1) currently reads “most other items * * * designated * * * ‘EAR99’, require a license to Cuba or Libya.” On August 31, 2006, BIS published an interim final rule (71 FR 51714) that amended the EAR to allow EAR99 items to be exported or reexported to Libya without a license, subject to the end-user and end-use controls in part 744 of the EAR. As a result, this rule removes “Libya” from the second sentence of § 746.1(a)(1).

Part 748—Requesting Approval Via Fax to Submit Applications Electronically

Section 748.7(a) describes the authorization procedures by which an applicant may request approval to apply electronically for a license or classification request. Currently, § 748.7(a)(1) only allows submission of written requests for approval to submit applications and requests electronically to certain addresses listed in § 748.2(c). This rule amends § 748.7(a)(1) to include submission of written requests via fax, which will conform to actual practice.

Part 748—Clarification of Import Certificate and End-User Statement Requirements

On June 19, 2007, BIS published a final rule (72 FR 33646) that changed the requirements for submitting either an Import Certificate or an End-User Statement. This rule amends §§ 748.10(a) and 748.10(b) to clarify the applicability of the $50,000 threshold. For exports to countries listed in § 748.9(b)(2), an Import Certificate is required for commodities controlled for national security (NS) reasons for transactions valued over $50,000. For exports to the PRC, an End-User Statement is required for transactions exceeding $50,000 involving most commodities that require a license to the PRC for any reason. Exceptions to the $50,000 threshold for certain exports to the PRC have been consolidated into new § 748.10(b)(3). This rule does not add any additional requirements for Import Certificates or End-User Statements; it only reorganizes the existing provisions to enhance clarity.

Furthermore, this rule corrects § 748.10(b)(4) to remove “software” from the first sentence. As noted in § 748.9(a)(7), support documents are not required for license applications involving the export or reexport of software or technology. On September 22, 1998, BIS published an interim rule (63 FR 50516) which clarified “a long-standing policy that no support documentation is required for exports of technology or software.” That rule removed references to the exports of technology or software to certain destinations in § 748.10(b)(1) but did not remove the reference to software in § 748.10(b)(4).

Part 748—Changes to Validated End-User (VEU) Reporting Requirements and to the Contact Information for the Ministry of Commerce of the PRC [?USGPO Galley End:?]

This final rule amends § 748.15(f)(1)(i) to no longer require exporters to submit the reports required under that section for VEUs because BIS already has access to that information. However, reexporters must continue to submit the annual reports as required by that section. Also, this final rule updates the contact information for the Ministry of Commerce, Department of Mechanic, Electronic and High Technology Industries of the PRC in Supplement No. 4 to part 748.

Part 750—Technical Correction to Shipping Tolerances

According to § 750.11(b)(1), items licensed by dollar value have no shipping tolerance in that one may not ship more than the total dollar value that is stated on the license. To determine if an item is license by dollar value, one may look to the “Unit” paragraph in the ECCN entry of the item. However, paragraph (b)(1) shows “§ value” as the appropriate indicator in the “Unit” paragraph to designate whether the item is licensed by dollar value. This rule changes “§ value” to the appropriate designation of dollar value, which is “$ value”.

Part 774—Citation Corrections in ECCNs 2B999, 9E001, and 9E002

Export Control Classification Number (ECCN) 2B999 lists multiple ECCNs under Related Controls. ECCNs listed under Related Controls are cross-references to similar items that readers of the EAR need to be aware of when determining the proper classification of their item. One such ECCN listed under Related Controls in ECCN 2B999 is ECCN 1B109. However, ECCN 1B109 does not exist on the Commerce Control List. This rule corrects that citation by replacing that ECCN with 2B109.

Moreover, the headings of ECCNs 9E001 and 9E002 reference ECCN 9A001.c, which does not exist. On July 15, 2005, BIS published a final rule (70 FR 41094) that redesignated ECCN 9A001.c as ECCN 9A001.b. In order to reflect that change, this rule removes the references to “9A001.c” in ECCNs 9E001 and 9E002 and replaces those references with “9A001.b.”

In addition, this rule makes the following correction to the Defense Priorities and Allocations System (DPAS) Regulation:

Part 700—Defense Priorities and Allocations System (DPAS) Technical Correction

This rule changes the name “Office of Clearance and Support,” referenced in § 700.21(a), to “Office of Electricity Delivery and Energy Reliability” to reflect the Department of Energy office currently assigned with the responsibility for reviewing applications for priority rating authority for projects believed to maximize domestic energy supplies. Also, this rule removes an erroneous reference in § 700.21(a) to DOE Form PR 437. The Department of Energy no longer uses DOE Form PR 437.

Although the Export Administration Act expired on August 20, 2001, the President, through Executive Order 13222 of August 17, 2001, 3 CFR, 2001 Comp., p. 783 (2002), as extended by the Notice of August 15, 2007, 72 FR 46137 (August 16, 2007), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves a collection of information subject to the requirements of the PRA. This collection has previously been approved by OMB under control number 0694-0088 (Multi-Purpose Application), which carries a burden hour estimate of 58 minutes to prepare and submit form BIS-748. Miscellaneous and recordkeeping activities account for 12 minutes per submission. BIS expects that this rule will not change that burden hour estimate.

3. This rule does not contain policies with Federalism implications as that term is defined under E.O. 13132.

4. BIS finds that there is good cause under 5 U.S.C. 553(b)(B) to waive the provisions of the Administrative Procedure Act requiring prior notice and the opportunity for public comment for all provisions except those amendments to part 748 of the EAR related to VEU reporting requirements because it is unnecessary. These revisions are administrative in nature and do not affect the rights and obligations of the public. Because these revisions are not substantive changes to the EAR and to the DPAS, it is unnecessary to provide notice and opportunity for public comment. In addition, the 30-day delay in effectiveness required by 5 U.S.C. 553(d) is not applicable because this rule is not a substantive rule. No other law requires that notice of proposed rulemaking and an opportunity for public comment be given for this rule.

BIS finds that there is good cause under 5 U.S.C. 553(b)(B) to waive the provisions of the Administrative Procedure Act requiring notice and the opportunity for public comment on the provision that amends Part 748 of the EAR related to VEU reporting requirements because it is unnecessary and contrary to the public interest. This rule amends the EAR to no longer require exporters to submit the reports required under § 748.15(f)(1)(i) for VEUs because BIS already requires the submission of that same information, and has access to that information, through other means. In order to eliminate any redundancy in the collection of this information, BIS amends its regulations to eliminate the submission of these reports. In addition, the 30-day delay in effectiveness required by 5 U.S.C. 553(d) is waived for good cause because the delay is contrary to the public interest. As stated above, BIS already requires the submission of information contained in the reports required under § 748.15(f)(1)(i) for VEUs, and has access to that information, through other means. In order to eliminate any redundancy in the collection of this information, BIS amends its regulations to eliminate the submission of these reports. No other law requires that notice of proposed rulemaking and an opportunity for public comment be given for this rule.

Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Steven Emme, Regulatory Policy Division, Bureau of Industry and Security, Department of Commerce, Room 2705, 14th Street and Pennsylvania Ave., NW., Washington, DC 20230.

List of Subjects

15 CFR Part 700

Administrative practice and procedure, Business and industry, Government contracts, National defense, Reporting and recordkeeping requirements, Strategic and critical materials.

15 CFR Parts 740, 748, and 750

Administrative practice and procedure, Exports, Reporting and recordkeeping requirements.

15 CFR Part 744

Exports, Reporting and recordkeeping requirements, Terrorism.

15 CFR Part 745

Administrative practice and procedure, Chemicals, Exports, Foreign trade, Reporting and recordkeeping requirements.

15 CFR Parts 746 and 774

Exports, Reporting and recordkeeping requirements.

Accordingly, part 700 of the Defense Priorities and Allocations System Regulation (15 CFR part 700) and parts 730, 740, 743, 744, 745, 746, 748, 750, 752, 754, and 774 of the Export Administration Regulations (15 CFR parts 730-774) are amended as follows:

PART 700—[AMENDED]

1. The authority citation for 15 CFR part 700 continues to read as follows:

Authority: Titles I and VII of the Defense Production Act of 1950, as amended (50 U.S.C. App. 2061, et seq.), Title VI of the Robert T. Stafford Disaster Relief and Emergency Assistance Act (42 U.S.C. 5195, et seq.), Executive Order 12919, 59 FR 29525, 3 CFR, 1994 Comp. 901, and Executive Order 13286, 68 FR 10619, 3 CFR, 2003 Comp. 166; section 18 of the Selective Service Act of 1948 (50 U.S.C. App. 468), 10 U.S.C. 2538, 50 U.S.C. 82, and Executive Order 12742, 56 FR 1079, 3 CFR, 1991 Comp. 309; and Executive Order 12656, 53 FR 226, 3 CFR, 1988 Comp. 585.

2. Section 700.21 is amended by revising paragraph (a) to read as follows:

§ 700.21 Application for priority rating authority.

(a) For projects believed to maximize domestic energy supplies, a person may request priority rating authority for scarce, critical, and essential supplies of materials, equipment, and services (related to the production of materials or equipment, or the installation, repair, or maintenance of equipment) by submitting a request to the Department of Energy. Further information may be obtained from the U.S. Department of Energy, Office of Electricity Delivery and Energy Reliability, 1000 Independence Avenue, SW., Washington, DC 20585.

* * * * *

PART 730—[AMENDED]

3. The authority citation for 15 CFR part 730 continues to read as follows:

Authority: 50 U.S.C. app. 2401 et seq.; 50 U.S.C. 1701 et seq.; 10 U.S.C. 7420; 10 U.S.C. 7430(e); 22 U.S.C. 287c; 22 U.S.C. 2151 note; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; 22 U.S.C. 7201 et seq.; 22 U.S.C. 7210; E.O. 11912, 41 FR 15825, 3 CFR, 1976 Comp., p. 114; E.O. 12002, 42 FR 35623, 3 CFR, 1977 Comp., p.133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp. p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, May 13, 2004; Notice of August 15, 2007, 72 FR 46137 (August 16, 2007); Notice of November 8, 2007, 72 FR 63963 (November 13, 2007).

4. Section 730.8 is amended by revising the third location entry at the end of paragraph (c) for the “U.S. Export Assistance Center” to read as follows:

§ 730.8 How to proceed and where to get help.

* * * * *

(c) * * *

U.S. Export Assistance Center, Bureau of Industry and Security, 160 W. Santa Clara Street, Suite 725, San Jose, California 95113, Tel: (408) 998-8805 or (408) 998-8806, Fax: (408) 998-8677.

5. Supplement No. 2 to part 730—Technical Advisory Committees, is amended by revising the first sentence of paragraph (b)(1) to read as follows:

Supplement No. 2 to Part 730—Technical Advisory Committees

* * * * *

(b) * * *

(1) Form and substance of requests. Each request for the appointment of a TAC shall be submitted in writing via courier to: Room 2705, 14th Street and Pennsylvania Ave., NW., Washington, DC 20230. * * *

* * * * *

PART 734—[AMENDED]

6. The authority citation for 15 CFR part 734 continues to read as follows:

Authority: 50 U.S.C. app. 2401 et seq.; 50 U.S.C. 1701 et seq.; E.O. 12938, 59 FR 59099, 3 CFR, 1994 Comp., p. 950; E.O. 13020, 61 FR 54079, 3 CFR, 1996 Comp. p. 219; E.O. 13026, 61 FR 58767, 3 CFR, 1996 Comp., p. 228; E.O. 13222, 66 FR 44025, 3 CFR, 2001 Comp., p. 783; Notice of August 15, 2007, 72 FR 46137 (August 16, 2007); Notice of November 8, 2007, 72 FR 63963 (November 13, 2007).

7. Supplement No. 1 to part 734 is amended by revising the last sentence in the second paragraph of the “Answer” to “Question D(3)” of Section D: Research, Correspondence, and Informal Scientific Exchanges, to read as follows:

Supplement No. 1 to Part 734—Questions and Answers—Technology and Software Subject to the EAR

* * * * *

Section D: Research, Correspondence, and Informal Scientific Exchanges

* * * * *

Question D(3): * * *

Answer: * * * Send written communications, via courier, to: Department of Commerce, Bureau of Industry and Security, Room 2705, 14th Street and Pennsylvania Ave., NW., Washington, DC 20230.

* * * * *

PART 740—[AMENDED]

8. The authority citation for 15 CFR part 740 continues to read as follows:

Authority: 50 U.S.C. app. 2401 et seq.; 50 U.S.C. 1701 et seq.; 22 U.S.C. 7201 et seq.; E.O. 13026, 61 FR 58767, 3 CFR, 1996 Comp., p. 228; E.O. 13222, 66 FR 44025, 3 CFR, 2001 Comp., p. 783; Notice of August 15, 2007, 72 FR 46137 (August 16, 2007).

9. Section 740.9(b)(1)(iv) is amended:

a. By revising the last two sentences as set forth below; and

b. By adding footnote 1, to read as follows:

§ 740.9 Temporary imports, exports, and reexports (TMP).

* * * * *

(b) * * *

(1) * * *

(i) * * *

(ii) * * *

(iii) * * *

(iv) * * * The commodity or software description, quantity, ultimate consignee, country of ultimate destination, and all other pertinent details of the shipment must be the same on a required Form B-13, as on Commerce Form 7513,¹ or when Form 7513 is not required, must be the same as on Customs Form 7512. When there is a material difference, a corrected Form B-13 authorizing the shipment is required.

¹ The complete names of these forms are: Commerce Form 7513, “Shipper's Export Declaration for Intransit Goods”; Customs Form 7512, “Transportation Entry and Manifest of Goods Subject to Customs Inspection and Permit”.

10. Section 740.12(a)(1) is amended:

a. By revising the last sentence as set forth below; and

b. By adding footnote 2 to read as follows:

§ 740.12 Gift parcels and humanitarian donations (GFT).

* * * * *

(a) * * *

(1) * * * However, payment by the donee of any handling charges or of any fees levied by the importing country (e.g., import duties, taxes, etc.) is not considered to be a cost to the donee for purposes of this definition of “gift parcel.” ²

² Many foreign countries permit the entry, duty-free, of gift parcels that conform to regulations regarding contents and marking. To secure this advantage, the sender should show the words “U.S.A. Gift Parcel” on the addressee side of the package and on any required customs declarations. Information regarding the foreign postal regulations is available at local post offices. Senders of gift parcels who wish information regarding import duties of a foreign country should contact the nearest Commercial Office, Consulate or Embassy of the country concerned.

§ 740.13 [Amended]

11. Section 740.13(d)(1) is amended by redesignating footnote “1” as footnote “3”.

§ 740.15 [Amended]

12. Section 740.15(c)(1) is amended by redesignating footnote “6” as footnote “4”, and § 740.15(c)(2) is amended by redesignating footnote “7” as footnote “5”.

Supplement No. 1 to Part 740 [Amended]

13. Supplement No. 1 to Part 740—Country Groups is amended by removing the rows labeled “Algeria”, “Andorra”, “Comoros”, “Djibouti”, “Micronesia”, and “Vanuatu” in the table titled “Country Group D”.

PART 743—[AMENDED]

14. The authority citation for 15 CFR part 743 continues to read as follows:

Authority: 50 U.S.C. app. 2401 et seq; Pub. L. 106-508; 50 U.S.C. 1701 et seq; E.O. 13222, 66 FR 44025, 3 CFR, 2001 Comp., p. 783; Notice of August 15, 2007, 72 FR 46137 (August 16, 2007).

15. Section 743.1 is amended by revising paragraph (g)(1) to read as follows:

§ 743.1 Wassenaar Arrangement.

* * * * *

(g) * * *

(1) Two (2) copies of reports required under this section shall be delivered via courier to: Bureau of Industry and Security, U.S. Department of Commerce, Attn: “Wassenaar Reports”, Room 2705, 14th Street and Pennsylvania Ave., NW., Washington, DC 20230. BIS will not accept reports sent C.O.D.

* * * * *

16. Section 743.2 is amended by revising paragraph (d) to read as follows:

§ 743.2 High performance computers: Post shipment verification reporting.

* * * * *

(d) Address. A copy of the post-shipment report(s) required under paragraph (b) of this section shall be delivered, via courier, to: U.S. Department of Commerce, Office of Enforcement Analysis, HPC Team, 14th Street and Constitution Ave., NW., Room 4065, Washington, DC 20230. Note that BIS will not accept reports sent C.O.D.

PART 744—[AMENDED]

17. The authority citation for 15 CFR part 740 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 15, 2007, 72 FR 46137 (August 16, 2007); Notice of November 8, 2007, 72 FR 63963 (November 13, 2007).

18. Paragraph (1)(ii) of Supplement No. 2 to part 744 is amended:

a. By removing the term “3.18 x 106m” and adding “3.18 x 10⁶m” in its place; and

b. By removing the term “7.62 x 104m” and adding “7.62 x 10⁴m” in its place.

c. By redesignating paragraph (3)(iii) as paragraph (3)(ii);

d. By redesignating paragraph (3)(ii) as paragraph (3)(iii);

e. By removing the word “that” in newly designated paragraph (3)(iii) and adding the word “than” in its place;

f. By adding a quotation mark immediately after the word “production” in paragraph (5)(ii); and

g. By redesignating paragraph (5)(v) as paragraph (5)(iii).

PART 745—[AMENDED]

19. The authority citation for 15 CFR part 745 is revised to read as follows:

Authority: 50 U.S.C. 1701 et seq.; E.O. 12938, 59 FR 59099, 3 CFR, 1994 Comp., p. 950; Notice of November 8, 2007, 72 FR 63963 (November 13, 2007).

PART 746—[AMENDED]

20. The authority citation for 15 CFR part 746 continues to read as follows:

Authority: 50 U.S.C. app. 2401 et seq.; 50 U.S.C. 1701 et seq.; 22 U.S.C. 287c; Sec 1503, Pub. L. 108-11, 117 Stat. 559; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 3 CFR, 2001 Comp., p. 783; Presidential Determination 2003-23 of May 7, 2003, 68 FR 26459, May 16, 2003; Presidential Determination 2007-7 of December 7, 2006, 72 FR 1899 (January 16, 2007); Notice of August 15, 2007, 72 FR 46137 (August 16, 2007).

§ 746.1 [Amended]

21. Section 746.1 is amended by removing the words “or Libya” from the second sentence of paragraph (a)(1).

PART 748—[AMENDED]

22. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 15, 2007, 72 FR 46137 (August 16, 2007).

23. Section 748.2 is amended by:

a. Revising the third location entry in paragraph (a) for the “U.S. Export Assistance Center,”; and

b. Revising paragraph (c).

The revisions read as follows:

§ 748.2 Obtaining forms; mailing addresses.

(a) * * * U.S. Export Assistance Center, Bureau of Industry and Security, 160 W. Santa Clara Street, Suite 725, San Jose, CA 95113, Tel: (408) 998-8805 or (408) 998-8806, Fax: (408) 998-8677.

* * * * *

(c) To submit your application using an overnight courier, use the following address: Bureau of Industry and Security, U.S. Department of Commerce, 14th Street and Pennsylvania Ave. NW., Room 2705, Washington, DC 20044, Attn: “Application Enclosed”. BIS will not accept applications sent C.O.D.

24. Section 748.7 is amended by revising the first sentence of paragraph (a)(1) to read as follows:

§ 748.7 Applying electronically for a license or classification request. [?USGPO Galley End:?]

(a) * * * (1) Requesting approval to submit applications electronically. To submit applications electronically, your company must submit a written request to BIS. Written requests may be faxed to (202) 219-9179 or (202) 219-9182 (Washington, DC), faxed to (949) 660-9347 (Newport Beach, CA), or submitted to one of the addresses identified in § 748.2(c) of this part. * * *

* * * * *

25. Section 748.10 is amended:

a. By revising the fourth and fifth sentences and adding a new sixth sentence to paragraph (a) as set forth below; and

b. By revising paragraph (b), to read as follows:

§ 748.10 Import Certificates and End-User Statements.

(a) Scope. * * * This section describes exceptions and relationships for both Import Certificates and End-User Statements, and generally applies only to transactions exceeding $50,000. In the case of countries identified in § 748.9(b)(2) of this part (excluding the People's Republic of China (PRC)), Import Certificates are required for national security controlled items in transactions exceeding $50,000. In the case of the PRC, End-User Statements are required for transactions exceeding $50,000 involving all items that require a license to the PRC for any reason. However, this $50,000 threshold is lower for certain exports to the PRC (see paragraph (b)(3) of this section).

(b) Import Certificate or End-User Statement. Unless your transaction meets one of the exemptions stated in § 748.9(a) of this part, an Import Certificate or End-User Statement must be obtained, if:

(1) Any commodities on your license application are controlled for national security (NS) reasons (except for items controlled under ECCNs 5A002 or 5B002), or any commodities to the PRC on your license application are controlled for any reason;

(2) The ultimate destination is a country listed in § 748.9(b)(2) of this part; and

(3) Your license application involves the export of commodities classified in a single entry on the CCL, and your ultimate consignee is in any destination listed in § 748.9(b)(2), and the total value of your transaction exceeds $50,000. Note that the $50,000 transaction threshold does not apply to certain exports to the PRC. If your transaction involves an export to the PRC of a computer that requires a license for any reason, an End-User Statement is required regardless of dollar value. Also, if your transaction involves an export to the PRC of an item classified under ECCN 6A003 that requires a license for any reason, an End-User Statement is required for transactions exceeding $5000.

(i) Your license application may list several separate CCL entries. If any individual entry including an item that is controlled for national security reasons exceeds $50,000, then an Import Certificate must be obtained covering all items controlled for national security reasons on your license application. If the total value of entries on a license application that require a license to the PRC for any reason listed on the CCL exceeds $50,000, then a PRC End-User Statement covering all such controlled items that require a license to the PRC on your license application must be obtained;

(ii) If your license application involves a lesser transaction that is part of a larger order for items controlled for national security reasons (or, for the PRC, for any reason) in a single ECCN exceeding $50,000, an Import Certificate, or a PRC End-User Statement, as appropriate, must be obtained.

(iii) You may be specifically requested by BIS to obtain an Import Certificate for a transaction valued under $50,000. You also may be specifically requested by BIS to obtain an End-User Statement for a transaction valued under $50,000 or for a transaction that requires a license to the PRC for reasons in the EAR other than those listed in the CCL.

26. Section 748.15 is amended:

a. By revising the last two sentences of paragraph (a)(1) as set forth below;

b. By removing the phrase “Exporters and reexporters” at the beginning of the first sentence of paragraph (f)(1)(i) introductory text and adding “Reexporters” in its place;

c. By removing the phrase “exported or” in paragraph (f)(1)(i)(A); and

d. By removing the phrase “exported or” in paragraph (f)(1)(i)(B). [?USGPO Galley End:?]

§ 748.15 Authorization Validated End-User (VEU).

* * * * *

(a) * * *

(1) * * * Submit the request to: The Office of Exporter Services, Bureau of Industry and Security, U.S. Department of Commerce, 14th Street and Pennsylvania Avenue, NW., Room 2705, Washington, DC 20230. Mark the package “Request for Authorization Validated End-User.”

* * * * *

27. Supplement No. 4 to part 748 is amended by revising the “IC/DV authorities” column entry for “China, People's Republic of” to read as follows:

Supplement No. 4 to Part 748—Authorities Administering Import Certificate/Delivery Verification (IC/DV) and End-User Statement Systems in Foreign Countries

Country | IC/DV authorities | System administered
* * * * * * *
China, People's Republic of | Ministry of Commerce; Department of Mechanic, Electronic and High Technology Industries; Export Control Division I; Chang An Jie No. 2; Beijing 100731 China; Phone: (86)(10) 6519 7366 or 6519 7390; Fax: (86)(10) 6519 7543; http://cys.mofcom.gov.cn/ag/ag.html | PRC, End-User Statement

* * * * *

28. Supplement No. 5 to part 748 is amended by revising paragraph (a)(2)(i) to read as follows:

Supplement No. 5 to Part 748—U.S. Import Certificate and Delivery Verification Procedure

* * * * *

(a) * * *

(2) * * *

(i) By courier to the Bureau of Industry and Security, Room 2705, 14th Street and Pennsylvania Ave., NW., Washington, DC 20230, Attn: Import Certificate Request; or

* * * * *

PART 750—[AMENDED]

29. The authority citation for 15 CFR part 750 continues to read as follows:

Authority: 50 U.S.C. app. 2401 et seq.; 50 U.S.C. 1701 et seq.; Sec 1503, Pub. L. 108-11, 117 Stat. 559; E.O. 13026, 61 FR 58767, 3 CFR, 1996 Comp., p. 228; E.O. 13222, 66 FR 44025, 3 CFR, 2001 Comp., p. 783; Presidential Determination 2003-23 of May 7, 2003, 68 FR 26459, May 16, 2003; Notice of August 15, 2007, 72 FR 46137 (August 16, 2007).

§ 750.11 [Amended]

30. Section 750.11(b)(1) is amended by removing the phrase “§ value” at both places where it appears and adding the term “$ value” in its places.

PART 752—[AMENDED]

31. The authority citation for 15 CFR part 752 continues to read as follows:

Authority: 50 U.S.C. app. 2401 et seq.; 50 U.S.C. 1701 et seq.; E.O. 13020, 61 FR 54079, 3 CFR, 1996 Comp. p. 219; E.O. 13222, 66 FR 44025, 3 CFR, 2001 Comp., p. 783; Notice of August 15, 2007, 72 FR 46137 (August 16, 2007).

32. Section 752.17 is revised to read as follows:

§ 752.17 BIS address.

You should use the following address when submitting to BIS applications, reports, documentation, or other requests required in this part 752, via courier: Bureau of Industry and Security, U.S. Department of Commerce, 14th and Pennsylvania Ave., NW., Room 2705, Washington, DC 20230, “Attn: Special Licensing and Compliance Division”. You may also reach the Special Licensing and Compliance Division by phone at (202) 482-0062 or by fax at (202) 501-6750.

PART 754—[AMENDED]

33. The authority citation for 15 CFR part 754 continues to read as follows:

Authority: 50 U.S.C. app. 2401 et seq.; 50 U.S.C. 1701 et seq.; 10 U.S.C. 7420; 10 U.S.C. 7430(e); 30 U.S.C. 185(s), 185(u); 42 U.S.C. 6212; 43 U.S.C. 1354; 46 U.S.C. app. 466c; E.O. 11912, 41 FR 15825, 3 CFR, 1976 Comp., p. 114; E.O. 13222, 66 FR 44025, 3 CFR, 2001 Comp., p. 783; Notice of August 15, 2007, 72 FR 46137 (August 16, 2007).

34. Section 754.2 is amended:

a. By revising paragraph (g)(1) as set forth below;

b. By removing the term “License Exceptions TAPS” in the first sentence of paragraph (j)(2) and adding “License Exception TAPS” in its place; and

c. By revising the second sentence of paragraph (j)(2) as set forth below:

§ 754.2 Crude oil.

* * * * *

(g) * * *

(1) Applicants must submit their applications, via courier, on Form BIS-748 to the following address: Office of Exporter Services, ATTN: Short Supply Program—Petroleum, Bureau of Industry and Security, U.S. Department of Commerce, 14th and Pennsylvania Ave., NW., Room 2705, Washington, DC 20230.

* * * * *

(j) * * *

(2) * * * The SED or AES record shall be sent, via courier, to the following address: Director, Deemed Exports and Electronics Division, Office of National Security and Technology Transfer Controls, Bureau of Industry and Security, U.S. Department of Commerce, 14th and Pennsylvania Ave., NW., Room 2705, Washington, DC 20230.

* * * * *

35. Section 754.6 is amended by revising paragraph (c) to read as follows:

§ 754.6 Registration of U.S. agricultural commodities for exemption from short supply limitations on export.

* * * * *

(c) Address. Submit applications pursuant to the provisions of section 7(g) of the EAA, via courier, to: Bureau of Industry and Security, U.S. Department of Commerce, 14th and Pennsylvania Ave., NW., Room 2705, Washington, DC 20230.

36. Section 754.7 is amended by revising paragraph (d) to read as follows:

§ 754.7 Petitions for the imposition of monitoring or controls on recyclable metallic materials; Public hearings.

* * * * *

(d) Address. Submit petitions pursuant to section 7(c) of the EAA, via courier, to: Bureau of Industry and Security, U.S. Department of Commerce, 14th and Pennsylvania Ave., NW., Room 2705, Washington, DC 20230.

PART 774—[AMENDED]

37. The authority citation for 15 CFR part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 15, 2007, 72 FR 46137 (August 16, 2007).

38. In Supplement No. 1 to part 774 (the Commerce Control List), Category 1—Materials, Chemicals, “Microorganisms” & “Toxins”, Export Control Classification Number (ECCN) 1C350 is amended by revising the last sentence of paragraph 1.e. in the “License Requirement Notes” section to read as follows:

Supplement No. 1 to Part 744—The Commerce Control List

* * * * *

Category 1—Materials, Chemicals, “Microorganisms” & “Toxins”

* * * * *

1C350 Chemicals that may be used as precursors for toxic chemical agents.

* * * * *

License Requirement Notes

1. * * *

a. * * *

b. * * *

c. * * *

d. * * *

e. * * * The report must be sent, via courier, to the U.S. Department of Commerce, Bureau of Industry and Security, 14th and Pennsylvania Ave., NW., Room 2705, Washington, DC 20230, Attn: “Report of Sample Shipments of Chemical Precursors”.

39. In Supplement No. 1 to part 774 (the Commerce Control List), Category 2—Materials Processing, Export Control Classification Number (ECCN) 2B999 is amended by revising the “Related Controls” paragraph of the “List of Items Controlled” section to read as follows:

Supplement No. 1 to Part 744—The Commerce Control List

* * * * *

Category 2—Materials Processing

* * * * *

2B999 Specific processing equipment, n.e.s., as follows (see List of Items Controlled).

* * * * *

List of Items Controlled

Unit: * * *

Related Controls: See also 0B001, 0B002, 0B004, 1B233, 2A293, 2B001.f, 2B004, 2B009, 2B104, 2B109, 2B204, 2B209, 2B228, 2B229, 2B231, 2B350.

* * * * *

40. In Supplement No. 1 to part 774 (the Commerce Control List), Category 9—Aerospace and Propulsion, Export Control Classification Number (ECCN) 9E001 is amended by revising the Heading and “License Requirements” section to read as follows:

Supplement No. 1 to Part 744—The Commerce Control List

* * * * *

Category 9—Aerospace and Propulsion

* * * * *

9E001 “Technology according to the General Technology Note for the “development” of equipment or “software” controlled by 9A001.b, 9A004 to 9A012, 9B (except 9B990 or 9B991), or 9D (except 9D990 or 9D991).

License Requirements

Reason for Control: NS, MT, AT

Control(s) | Country chart
NS applies to “technology” for items controlled by 9A001.b, 9A012, 9B001 to 9B010, 9D001 to 9D004 for NS reasons | NS Column 1.

* * *

* * * * *

41. In Supplement No. 1 to part 774 (the Commerce Control List), Category 9—Aerospace and Propulsion, Export Control Classification Number (ECCN) 9E002 is amended by revising the Heading to read as follows:

Supplement No. 1 to Part 744—The Commerce Control List

* * * * *

Category 9—Aerospace and Propulsion

* * * * *

9E002 “Technology” according to the General Technology Note for the “production” of equipment controlled by 9A001.b, 9A004 to 9A011 or 9B (except 9B990 or 9B991).

* * * * *

Dated: December 21, 2007.
Matthew S. Borman,
Deputy Assistant Secretary for Export Administration.

[FR Doc. E7-25423 Filed 12-31-07; 8:45 am]

BILLING CODE 3510-33-P